DEPARTMENT OF DEFENSE

Department of the Army

Privacy Act of 1974; System of Records

AGENCY: Department of the Army, DoD.

ACTION: Notice to amend a system of records.

SUMMARY: The Department of the Army is amending a system of records notice in its existing inventory of record systems subject to the Privacy Act of 1974 (5 U.S.C. 552a), as amended.

DATES: This proposed action will be effective without further notice on March 9, 2000, unless comments are received which result in a contrary determination.

ADDRESSES: Privacy Act Officer, Records Management Program Division, Army Records Management and Declassification Agency, ATTN: TAPC-PDD-RP, Stop C55, Ft. Belvoir, VA 22060-5576.

FOR FURTHER INFORMATION CONTACT: Ms. Janice Thornton at (703) 806-4390 or DSN 656-4390.

SUPPLEMENTARY INFORMATION: The Department of the Army systems of records notices subject to the Privacy Act of 1974, (5 U.S.C. 552a), as amended, have been published in the Federal Register and are available from the address above.

The specific changes to the records system being amended are set forth below followed by the notice, as amended, published in their entirety. The proposed amendments are not within the purview of subsection (r) of the Privacy Act of 1974, (5 U.S.C. 552a), as amended, which requires the submission of a new or altered system report.

Dated: February 2, 2000.
L.M. Bynum,
Alternate OSD Federal Register Liaison Officer, Department of Defense.

A0340 JDMSS

System name:

HQDA Correspondence and Control/Central Files System (February 22, 1993, 58 FR 10002).

Changes:

System identifier:

Change to ‘A0025 JDIM’.

* * * * *

Retention and disposal:

Delete entry and replace with ‘Disposition pending (until NARA disposition is approved, treat as permanent).’

Storage:

Delete entry and replace with ‘Paper records and computer database.’

Retrievability:

Delete entry and replace with ‘Paper records are retrieved by date of correspondence; electronic records are retrieved by name, date of correspondence, subject natter, or key word (which may include Social Security Number and date of birth).’

Safeguards:

Delete entry and replace with ‘Records are controlled; access to information from specified documents if restricted to persons who have been designated by their agency to have official need for the information in the performance of their duties. File areas are protected by electronic surveillance systems with combination lock doors. Users of the system receive training designed to preclude misuse or unauthorized disclosure of information.’

* * * * *

A0340 JDMSS

System name:

HQDA Correspondence and Control/Central Files System.

System location:

Office, Secretary of the Army; Office, Chief of Staff; Headquarters, Department of the Army Staff agencies. Official mailing addresses are published as an appendix to the Army's compilation of systems of records notices.

Categories of individuals covered by the system:

Individuals who either initiated, or are the subject of, communications with the Headquarters, Department of the Army.

Categories of records in the system:

Inquiries, with referrals and responses, and other communications pertaining to any function or subject involving or of interest to Headquarters, Department of the Army level. Records may include, but are not restricted to, complaints, appeals, grievances, investigations, alleged improprieties, personnel actions, medical reports, intelligence, and similar matters. They may be either specific or general in nature and may include such personal information as an individual's name, Social Security Number, date and/or place of birth, description of events or incidents of a sensitive or privileged nature, commendatory or unfavorable data.

Authority for maintenance of the system:

5 U.S.C. 301, Departmental Regulations; 10 U.S.C. 3013, Secretary of the Army; Army Regulation 25-1, The Army Information Resources Management Program; and E.O. 9397 (SSN).

Purpose(s):

To control correspondence, document actions taken, and locate records for reference purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Note: Disclosure of information from documents or records which properly become part of another system of records will be as authorized in the ‘routine uses‘ portion of that system of records.

Policies and practices for storing, retrieving, accessing, retaining, and disposing of records in the system:

Storage:

Paper records and computer database.

Retrievability:

Paper records are retrieved by date of correspondence; electronic records are retrieved by name, date of correspondence, subject natter, or key word (which may include Social Security Number and date of birth).

Safeguards:

Records are controlled; access to information from specified documents if restricted to persons who have been designated by their agency to have official need for the information in the performance of their duties. File areas are protected by electronic surveillance systems with combination lock doors. Users of the system receive training designed to preclude misuse or unauthorized disclosure of information

Retention and disposal:

Disposition pending (until NARA disposition is approved, treat as permanent).

System manager(s) and address:

Chief of Correspondence, Office of the Secretary of the Army, 101 Army Pentagon, Washington, DC 20310-0101.

Chief of Staff, 200 Army Pentagon, Washington, DC 20310-0200.

Commander, Corps of Engineers, 200 Massachusetts Avenue, Washington, DC 20314-1000.

Notification procedure:

Individuals seeking to determine whether information about themselves is contained in this system should address written inquiries to the system manager having functional responsibility or interest.

For verification purposes, the individual should provide full name, current address, and Social Security Number (if applicable), and the request must be signed. Inquiry should include timeframe of correspondence, subject matter, and details that will assist in identifying the records sought.

Record access procedures:

Individuals seeking access to information about themselves contained in this system should address written inquiries to the system manager having functional responsibility or interest.

For verification purposes, the individual should provide full name, current address, and Social Security Number (if applicable), and the request must be signed. Inquiry should include timeframe of correspondence, subject matter, and details that will assist in identifying the records sought.

Contesting record procedures:

The Army’s rules for accessing records, and for contesting contents and appealing initial agency determinations are contained in Army Regulation 340-21; 32 CFR part 505; or may be obtained from the system manager.

Record source categories:

From the individual; correspondence emanating within the Army Secretariat, the Office, Chief of Staff, and Army Staff agencies; and other Federal agencies.

Exemptions claimed for the system:

Information specifically authorized to be classified under E.O. 12958, as implemented by DoD 5200.1-R, may be exempt pursuant to 5 U.S.C. 552a(k)(1).

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Records maintained in connection with providing protective services to the President and other individuals under 18 U.S.C. 3506, may be exempt pursuant to 5 U.S.C. 552a(k)(3).

Records maintained solely for statistical research or program evaluation purposes and which are not used to make decisions on the rights, benefits, or entitlement of an individual except for census records which may be disclosed under 13 U.S.C. 8, may be exempt pursuant to 5 U.S.C. 552a(k)(4).

Investigatory material compiled solely for the purpose of determining suitability, eligibility, or qualifications for federal civilian employment, military service, federal contracts, or access to classified information may be exempt pursuant to 5 U.S.C. 552a(k)(5), but only to the extent that such material would reveal the identity of a confidential source.

Testing or examination material used solely to determine individual qualifications for appointment or promotion in the Federal service may be exempt pursuant to 5 U.S.C. 552a(k)(6), if the disclosure would compromise the objectivity or fairness of the test or examination process.

Evaluation material used to determine potential for promotion in the Military Services may be exempt pursuant to 5 U.S.C. 552a(k)(7), but only to the extent that the disclosure of such material would reveal the identity of a confidential source.

An exemption rule for this exemption has been promulgated in accordance with requirements of 5 U.S.C. 553(b) (1), (2), and (3), (c) and (e) and published in 32 CFR part 505. For additional information contact the system manager.

[FR Doc. 00-2820 Filed 2-7-00; 8:45 am]

BILLING CODE 5001-10-F